DEPARTMENT OF THE INTERIOR

National Park Service

Draft Environmental Impact Statement

AGENCY: National Park Service, Interior.

ACTION: Notice of Intent (NOI) to prepare a Draft Environmental Impact Statement (DEIS).

SUMMARY: Notice is hereby given that in accordance with the National Environmental Policy Act of 1969, the U.S. Department of the Interior, National Park Service (NPS) will prepare a Draft Environmental Impact Statement (DEIS) on the Feasibility Study (Special Resource Study) on the Preservation of Civil War Battlefields and Related Historic Sites along the Vicksburg Campaign Trail in Arkansas, Louisiana, Mississippi, and Tennessee. These sites will each be examined with a view to how they might best be preserved and linked together into the Vicksburg Campaign Trail. The study process entails evaluating the national significance, suitability, feasibility, and management options for each identified site according to NPS standards and criteria established by the Civil War Sites Advisory Commission Report on the Nation's Civil War Battlefields (1993).

For each site, experts and professional historians will determine whether it qualifies as Tier I (nationally significant), Tier II (regionally or state significant), or Tier III (locally significant). Based on this evaluation, some sites may be recommended for addition to the National Park System. Protection and interpretation of sites not recommended for addition to the National Park System will be sought via other arrangements, that may include management by other Federal agencies, State or local governments, non-profit organizations or private owners. These different management options form the basis for various alternatives, the environmental impacts of which will be analyzed in the DEIS. Through the scoping process, the NPS welcomes suggestions from the public both of potential sites and possible management options.

DATES: Public meetings will be conducted during the course of the project. Additional scoping opportunities such as public meetings, newsletters, etc. will be announced in the local media. Representatives of the NPS will be available to discuss issues, resource concerns, and the planning process at each of the public meetings. This Notice will also serve as an additional scoping method. Persons who may be interested in or affected by the Feasibility Study/DEIS are invited to participate in the scoping process by responding to this Notice with written comments. The scoping process will help define issues or problems facing the feasibility study.

ADDRESSES: Comments on the Vicksburg Campaign Trail Feasibility Study, potential sites, management options, and environmental issues that should be addressed should be directed to Bill Koning, National Park Service Planner, Denver Service Center, PO Box 25287, 12795 W. Alameda Parkway, Denver, CO 80225-0287.

FOR FURTHER INFORMATION CONTACT: Requests for information concerning dates and background on the feasibility study, including a brochure describing the process should be directed to William O. Nichols, Superintendent, Vicksburg National Military Park, 3201 Clay Street, Vicksburg, MS 39183, (601) 636-0583, or Bill Koning, National Park Service Planner, Denver Service Center, PO Box 25287, 12795 W. Alameda Parkway, Denver, CO 80225-0287, (303) 969-2390.

SUPPLEMENTARY INFORMATION: On July 4, 1863, after an eight-month campaign and siege, heavily-fortified Vicksburg, Mississippi capitulated to Federal forces commanded by General Ulysses S. Grant. This surrender gave the Union control of the Lower Mississippi River and effectively cut the Confederate States of America in half. It was regarded by many at the time, including President Abraham Lincoln, as one of the pivotal events of that great conflict; contemporary Civil War historians continue to regard it in that light. Grant's monumental campaign to capture the “Gibraltar of the Confederacy” is seen by military historians as a brilliant logistical exhibition, encompassing long and difficult flanking maneuvers, cavalry raids, pitched battles, naval engagements, and siege warfare. Grant's triumph at Vicksburg paved the way for his subsequent battles at Chattanooga in November 1863, and then—as commander of all Union armies—at the Wilderness and Petersburg; ultimately, it made possible his starring role at Appomattox as well as his eventual election as President of the United States.

In November 2000, Public Law 106-487 authorized a feasibility study on the preservation of Civil War battlefields along the Vicksburg Campaign Trail. The task is to examine and evaluate a variety of sites in four states associated with the Civil War events of the Vicksburg Campaign. The feasibility study is to be completed within three years and is to examine a large number (over 400) and wide variety of sites in Arkansas, Louisiana, Mississippi, and Tennessee. Each site will be evaluated for national significance, as well as the suitability and feasibility of adding it to the National Park System. This DEIS will examine the potential environmental effects of different management options for the sites found to be eligible for inclusion in the National Park System.

The legislation directs a review of current NPS programs, policies, and criteria to determine the most appropriate means of preservation; to make evaluations for the establishment of a site and management entity consisting of a unit of government or private non-profit organization; and to make recommendations to the states regarding the management, preservation, and interpretation of natural, cultural and historical resources associated with the various sites. Furthermore, the legislation directs that partnerships among Federal, State, and local governments, regional entities, and the private sector be identified where they would provide an effective means of preserving specific battlefield sites. Finally, the legislation requires that methods of ensuring continued local involvement in the management of battlefield sites be explored.

The responsible official for this DEIS is Jerry Belson, Regional Director, National Park Service, Southeast Region, 100 Alabama Street SW., Atlanta, Georgia 30303.

Dated: June 19, 2002.
W. Thomas Brown,
Acting Regional Director, Southeast Region.

[FR Doc. 02-24064 Filed 9-20-02; 8:45 am]

BILLING CODE 4310-70-P